DEPARTMENT OF AGRICULTURE

Office of the Secretary

Privacy Act of 1974; Proposed New System of Records

AGENCY: Office of the Secretary, USDA.

ACTION: Proposed new system of records

SUMMARY: As required by the Privacy Act of 1974, the U.S. Department of Agriculture (USDA) is publishing for comment a proposed new system of records, Grain Inspection, Packers and Stockyards Administration, USDA/GIPSA-1, Packers and Stockyards Automated System (PAS). PAS will be used by the Grain Inspection, Packers and Stockyards Administration (GIPSA) to enforce the Packers and Stockyards (P&S) Act of 1921, as amended. PAS, an automated information management system, integrates case file management, data monitoring, and reporting into a single enterprise application that shares data across organizational units.

DATES: This notice will be adopted without further publication in the Federal Register on May 13, 2013 unless notified by a subsequent notice to incorporate comments received from the public. Although the Privacy Act requires only that a portion of the system that describes the “routine uses” of the system be published for comment, USDA invites comments on all portions of this notice. Comments must be received by the contact person listed below on or before May 3, 2013.

ADDRESSES: You may submit comments, identified by docket number USDA/Grain Inspection, Packers and Stockyards Administration, by one of the following methods:

• Federal e-Rulemaking Portal: http://www.regulations.gov. Follow the instructions for submitting comments.

• Fax: (202) 690-2173

• Mail: Irene Omade, GIPSA, USDA, 1400 Independence Avenue SW., Room 2530-S, Washington, DC 20250-3642.

• Instructions: All submissions received must include the agency name and docket number for this rulemaking. All comments received will be posted without change to http://www.regulations.gov, including any personal information provided.

• Docket: For access to the docket to read background documents or comments received, go to http://www.regulations.gov.

FOR FURTHER INFORMATION CONTACT: For general questions, please contact: Joanne C. Peterson, GIPSA Privacy Act Officer, 202-720-8087, 1400 Independence Avenue SW., Room 2548-S, Washington, DC 20250-3642. For privacy issues, please contact: Ravoyne Payton, Chief Privacy Officer, Cyber and Privacy Policy and Oversight, Office of the Chief Information Officer, Department of Agriculture, Washington, DC 20250.

SUPPLEMENTARY INFORMATION: Pursuant to the Privacy Act of 1974, as amended (5 U.S.C. 552a), USDA announces a proposed new system of records titled “USDA/GIPSA-1, Packers and Stockyards Automated System (PAS),” which is managed by the Packers and Stockyards (P&S) Program—a mission area of USDA's GIPSA. The P&S Program administers the Packers and Stockyards Act, which was enacted by Congress to ensure fair competition and fair trade practices; to safeguard farmers and ranchers; to protect consumers; and to protect members of the livestock, meat, and poultry industries from unfair, deceptive, unjustly discriminatory, and monopolistic practices, 7 U.S.C. 181 et seq. Through its oversight activities, including monitoring programs and conducting reviews and investigations, the P&S Program fosters fair competition, provides payment protection, and guards against deceptive and fraudulent trade practices that affect the movement and price of most animals and their products. PAS integrates case file management, data monitoring, and reporting into a single enterprise application that shares data across organizational units. PAS is comprised of two components—Enterprise Content Management (ECM) and the Account Management System (AMS). The heart of the system is the ECM component, which manages the workflows that were developed from the P&S Program's core business processes and the documents that are generated as part of those processes, such as complaints from poultry contract growers, case files of investigations, and monitoring reviews of scale tests. These workflows include Registration; Bonding; Investigation; Regulatory Activities; Enforcement; Bond and Trust Claims; Bond Terminations and Expirations; and Collection of Mandatory Reports.

The AMS component stores and manages regulated entity business data, supports queries, generates batch letters, and provides reporting capabilities. The following information is contained in PAS: name, trade name, business entity type, type of organization, mailing and operating address, telephone numbers, type of livestock handled, character of business, ownership information, scales and facilities used or owned by the business, Web sites where the regulated entities will operate, custodial account information (for market agencies selling on commission), bond information, and information registered entities submit in annual or special reports.

The information collected and maintained in PAS is used to administer the registration, posting, and bonding provisions under the P&S Act; to adjudicate contract disputes; and to enforce the P&S Act and the regulations issued there under. Routine uses of the records maintained in PAS include disclosure to the Department of Justice; courts or adjudicative bodies; Members of Congress or Congressional staff members; Federal, state, foreign, or other public authorities; the National Archives and Records Administration; contractors, grantees, experts, consultants, or volunteers; and/or appropriate agencies, entities, and persons regarding the security of PAS.

In accordance with 5 U.S.C. 552a(r), USDA has provided a report of this system of records to the Office of Management and Budget and to Congress.

Thomas J. Vilsack,
Secretary.

USDA/GIPSA-1

System name:

Grain Inspection, Packers and Stockyards Administration, USDA/GIPSA-1, Packers and Stockyards Automated System (PAS).

Security classification:

Unclassified.

System location:

PAS is physically located at the National Information Technology Center (NITC) in Kansas City, Missouri. PAS resides on computers of all users of the system who are located at GIPSA headquarters in Washington, DC; at regional offices that are located in Atlanta, Georgia; Des Moines, Iowa; and Denver, Colorado; and at resident agent offices that are dispersed across the United States. Resident agents are GIPSA employees stationed at various locations throughout the United States. Paper records are located in GIPSA offices, including resident agent offices, nationwide.

Categories of individuals covered by the system:

The records in this system relate to entities and individuals that are regulated under the P&S Act, which include stockyard owners, market agencies, dealers, packers, swine contractors, and live poultry dealers. Also included is information regarding individuals who are interviewed by P&S Program investigatory personnel to provide statements and affidavits in connection with investigations.

Categories of records in the system:

• Business owners' names, trade names; home and business operating addresses; telephone numbers, type of livestock handled; character of business; ownership information; name and location of posted stockyards, auction markets, and feedlots; Web sites where they will operate, and custodial account numbers (for market agencies selling on commission).

• Packers, market agencies, and dealers who apply for a surety bond to meet the bonding requirements of the P&S Act provide bond number, principal name and address, surety name and address, condition of the bond, and power of attorney.

• Certain producers and growers file trust claims against packers and live poultry dealers for delayed or nonpayment of livestock and poultry transactions. Information provided includes name and address of claimant, name and address of respondent, date of transaction, amount claimed, name and address where transaction occurred, description of transaction, terms of contract, supporting documentation, and evidence.

• P&S Program investigative records and supporting documentation obtained from P&S investigative personnel, which includes names, addresses, and employment information regarding individuals who are interviewed and who provide statements and affidavits. P&S personnel also collect documents that reflect business transactions and banking information, such as account information.

Authority for maintenance of the system:

7 U.S.C. 222; 7 U.S.C. 181 et seq., generally.

Purpose(s):

PAS is an automated information management system that is used by GIPSA's P&S Program to manage and to track its workflow processes for regulatory activities and investigations in the livestock and poultry industries and to store records and data that are related to these activities. PAS also captures and maintains documents and data for business entities that are regulated under the P&S Act; financial instruments to ensure financial protection to parties involved in the livestock, meat, and poultry industries; and weight scales that are managed by parties who conduct business in the livestock and meat industries.

Routine uses of records maintained in the system, including categories of users and the purposes of such uses:

In addition to those disclosures generally permitted under 5 U.S.C. 552a(b) of the Privacy Act, all or a portion of the records or information contained in PAS may be disclosed outside USDA as a routine use pursuant to 5 U.S.C. 552a(b)(3) as follows:

A. To the Department of Justice (including United States Attorney Offices) or other Federal agency conducting litigation or in proceedings before any court, adjudicative or administrative body, when it is necessary to the litigation and one of the following is a party to the litigation or has an interest in such litigation:

1. USDA or any component thereof;

2. Any employee of USDA in his/her official capacity;

3. Any employee of USDA in his/her individual capacity where DOJ or USDA has agreed to represent the employee; or

4. The United States or any agency thereof, is a party to the litigation or has an interest in such litigation, and USDA determines that the records are both relevant and necessary to the litigation and the use of such records is compatible with the purpose for which USDA collected the records.

B. To a congressional office from the record of an individual in response to an inquiry from that congressional office made at the written request of the individual to whom the record pertains.

C. To the National Archives and Records Administration or other Federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. The Department suspects or has confirmed that the security or confidentiality of information in the system of records has been compromised;

2. The Department has determined that as a result of the suspected or confirmed compromise there is a risk of harm to economic or property interests, identity theft or fraud, or harm to the security or integrity of this system or other systems or programs (whether maintained by the Department or another agency or entity) or harm to the individual that rely upon the compromised information; and

3. The disclosure made to such agencies, entities, and persons is reasonably necessary to assist in connection with the Department's efforts to respond to the suspected or confirmed compromise and prevent, minimize, or remedy such harm.

F. To contractors and their agents, grantees, experts, consultants, and others performing or working on a contract, service, grant, cooperative agreement, or other assignment for USDA, when necessary to accomplish an agency function related to this system of records. Individuals provided information under this routine use are subject to the same Privacy Act requirements and limitations on disclosure as are applicable to USDA officers and employees.

G. To an appropriate Federal, State, Tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

Disclosure to consumer reporting agencies:

None.

Policies and practices for storing, retrieving, accessing, retaining, and disposing of records in the system:

Storage:

Records in PAS are stored electronically on magnetic disc, tape, digital media, and/or CD-ROM. PAS is a customized module within USDA's Enterprise Content Management (ECM), which is maintained by the Office of the Executive Secretariat. ECM is based upon a suite of document management applications that have been specifically designed for use by the employees and officers of USDA to manage documents associated with a wide range of administrative and business processes. PAS is hosted on servers located within secure computing environments at NITC in Kansas City, Missouri. Paper records are stored in GIPSA offices nationwide prior to scanning into PAS.

Retrievability:

Records may be retrieved by applicant name, business entity name, owner name, facility name, respondent name, complainant name, alleged violator's name, and investigation or regulatory activity identification case number.

Safeguards:

Computer records in PAS are safeguarded in accordance with applicable rules and policies, including all applicable USDA automated systems security and access policies. Strict controls have been imposed to minimize the risk of compromising the information that is stored. Access to PAS is limited to those who have a need to know. Permission level assignments allow users access only to those functions for which they are authorized to perform their official duties. System users, managers, and PAS Administrators have access to the data in the system. Access is controlled by the eAuthentication System (eAuth). Once an eAuth account has been created, the PAS Administrator will grant access to the user based on his/her position and title. Paper records are maintained in locked cabinets and in desks that are located in physically secured rooms.

Retention and disposal:

Certain records in PAS are maintained for 3 years; others are maintained for 5 years, in accordance with General Records Schedule 20, Electronic Records, items 2a and Other Reports covered under the GRS 20, 11(a)1. Paper records are retained in accordance with GRS 20, items 1a, 2a, and 16.

System manager and address:

GIPSA, P&S Program, 1400 Independence Avenue SW., Room 2055-S, Washington, DC 20250-3601.

Notification procedure:

Individuals seeking notification of and access to any record contained in this system of records, or seeking to contest its content, may submit a request in writing to the Headquarters or component's FOIA Officer, whose contact information can be found at http://www.da.usda.gov/foia.htm under “USDA FOIA Points of Contact.” If an individual believes more than one component maintains Privacy Act records concerning him or her, the individual may submit the request to the Chief FOIA Officer, Department of Agriculture, 1400 Independence Avenue SW., Washington, DC 20250.

When seeking records about yourself from this system of records or any other Departmental system of records, your request must conform with the Privacy Act regulations set forth in 7 CFR part 1, subpart G.

Record access procedures:

See “Notification procedure” above.

Contesting record procedures:

See “Notification procedure” above.

Record source categories:

The information is obtained (1) From entities and individuals who are doing business in the livestock, meat, and poultry industries and who register under the P&S Act to conduct such business; (2) from individuals and businesses who file claims against registrants; (3) financial institutions, attorneys, accountants, and insurance companies; and (4) by GIPSA employees who collect the information during the course of their official responsibilities, such as investigative personnel.

Exemptions claimed for the system:

None.

[FR Doc. 2013-07671 Filed 4-2-13; 8:45 am]

BILLING CODE 3410-KD-P